ENVIRONMENTAL PROTECTION AGENCY

[EPA-HQ-OECA-2011-0272; FRL-9994-55-OMS]

Information Collection Request Submitted to OMB for Review and Approval; Comment Request; Emission Guidelines for Hospital/Medical/Infectious Waste Incinerators (Renewal)

AGENCY: Environmental Protection Agency (EPA).

ACTION: Notice.

SUMMARY: The Environmental Protection Agency (EPA) has submitted an information collection request (ICR), Emission Guidelines for Hospital/Medical/Infectious Waste Incinerators (EPA ICR Number 1899.09, OMB Control Number 2060-0422), to the Office of Management and Budget (OMB) for review and approval in accordance with the Paperwork Reduction Act. This is a proposed extension of the ICR, which is currently approved through May 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before July 1, 2019.

ADDRESSES: Submit your comments, referencing Docket ID Number EPA-HQ-OECA-2011-0272, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The Emission Guidelines (EG) (40 CFR part 60, subpart Ce) for Hospital/Medical/Infectious Waste Incinerators were proposed on February 27, 1995; promulgated on September 15, 1997; and revised on both October 6, 2009 and April 4, 2011. The Federal Plan Requirements for these regulations (40 CFR part 62, subpart HHH) were proposed on July 6, 1999; promulgated on August 15, 2000; and revised on May 13, 2013. Subpart Ce requires either states or tribes to develop plans to implement the EG. If approvable state or tribal plans were not developed, the EPA was required to develop a Federal plan (Subpart HHH) to implement the Emission Guidelines for such states and tribes. The Federal plan is an interim measure to ensure that emissions standards are implemented until states assume their role as the preferred implementers of the EG. The 2013 rule finalized amendments to the HMIWI federal plan to implement the amended EG adopted on October 6, 2009, for those states that did not have an approved revised/new state plan in place within 2 years after promulgation of the EG. The regulations in 40 CFR part 60, subpart Ce and 40 CFR part 62, subpart HHH apply to each existing individual hospital/medical/infectious waste incinerator (HMIWI) that either commenced construction prior to December 2, 2008 or commenced modification prior to April 6, 2010. This information is being collected to assure compliance with 40 CFR part 60, subpart Ce and 40 CFR part 62, subpart HHH.

In general, all Emission Guidelines require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to the Emission Guidelines.

Form Numbers: None.

Respondents/affected entities: The regulations in 40 CFR part 60, subpart Ce and 40 CFR part 62, subpart HHH apply to each existing individual hospital/medical/infectious waste incinerator (HMIWI) that commenced construction prior to December 2, 2008 or commenced modification prior to April 6, 2010.

Respondent's obligation to respond: Mandatory (40 CFR part 60, subpart Ce and 40 CFR part 62, subpart HHH).

Estimated number of respondents: 58 existing respondents, consisting of 31 privately-owned, 5 Federally-owned, and no State/locally-owned HMIWI facilities, plus 22 States requiring State Plan Inventories (total).

Frequency of response: Semiannually and annually.

Total estimated burden: 34,600 hours (per year). Burden is defined at 5 CFR 1320.3(b).

Total estimated cost: $4,620,000 (per year), which includes $479,000 in annualized capital/startup and/or operation & maintenance costs.

Changes in the Estimates: There is no change in the total estimated burden as currently identified in the OMB Inventory of Approved Burdens. The regulations have not changed over the past three years and are not anticipated to change over the next three years. There is no change in the labor hour figures in this ICR compared to the previous ICR. The number of sources subject to these regulations has remained constant. There is an increase in the number of responses; however, this increase is not due to any program changes. We have revised the number of responses to correctly account for the `report of annual inspection' for state and federal respondents. The previous ICR only counted these reports for small rural HWIMIs, but the regulations require all HWIMIs to submit this report. The burden did not change, as these costs were already correctly accounted for in Table 1. The labor costs have increased due to an update in labor rates. This ICR reflects the on-going burden and costs for the 58 existing respondents.

Courtney Kerwin,
Director, Regulatory Support Division.

[FR Doc. 2019-11266 Filed 5-29-19; 8:45 am]

BILLING CODE 6560-50-P